DEPARTMENT OF COMMERCE

International Trade Administration

[C-533-821]

Certain Hot-Rolled Carbon Steel Flat Products From India: Notice of Extension of Final Results of Countervailing Duty Administrative Review

AGENCY: Import Administration, International Trade Administration, Department of Commerce.

FOR FURTHER INFORMATION CONTACT: John Conniff at (202) 482-1009, AD/CVD Operations, Office 3, Import Administration, International Trade Administration, U.S. Department of Commerce, 14th Street and Constitution Ave, NW., Washington, DC 20230.

Background

On December 1, 2006, the Department published a notice of opportunity to request an administrative review of this CVD order. See Antidumping or Countervailing Duty Order, Finding, or Suspended Investigation; Opportunity to Request Administrative Review, 71 FR 69543 (December 1, 2006) (Opportunity to Request Review).¹ On January 9, 2008, the Department published the preliminary results of this review. See Certain Hot-Rolled Carbon Steel Flat Products from India: Notice of Preliminary Results of Countervailing Duty Administrative Review, 73 FR 1578 (January 9, 2008). The final results of this review are currently due no later than May 8, 2008.

¹ On December 18, 2006, we published a correction to the notice of Opportunity to Request Review to correct the POR. See Antidumping or Countervailing Duty Order, Finding, or Suspended Investigation; Opportunity to Request Administrative Review; Correction, 71 FR 75709 (December 18, 2006).

Extension of Time Limit of Final Results

Section 751(a)(3)(A) of the Tariff Act of 1930, as amended (“the Act”), requires the Department to issue final results within 120 days after the date on which the preliminary results are published. However, if it is not practicable to complete the review within that time period, section 751(a)(3)(A) of the Act allows the Department to extend the time limit for the final results to a maximum of 180 days. See also 19 CFR 351.213(h)(2).

We determine that it is not practicable to complete the final results of this review within the original time limit. Several technical issues arose after the preliminary results which require the collection and analyses of certain additional information and verification of the information. Therefore, to allow sufficient time to collect and analyze the additional information, and to conduct the briefing process, the Department is fully extending the final results. The final results are now due not later than July 7, 2008, 180 days from publication of the preliminary results. The amended schedule for interested parties to submit case briefs, written comments, and/or request a hearing is not later than seven days after the release of the last verification report. Rebuttal briefs are limited to issues raised in such briefs or comments and may be filed no later than five days after the time limit for filing the case briefs or comments. See 19 CFR 351.309(d). Any hearing, if requested, ordinarily will be held two days after the due date of the rebuttal briefs.

This extension is in accordance with section 751(a)(3)(A) of the Act and 19 CFR 351.213(h)(2).

Dated: February 29, 2008.
Stephen J. Claeys,
Deputy Assistant Secretary for Import Administration.

[FR Doc. E8-4427 Filed 3-5-08; 8:45 am]

BILLING CODE 3510-DS-P